DEPARTMENT OF THE INTERIOR

Bureau of Land Management

[15 XL LLIDI00000-L11200000-PH0000 241 A 4500075502]

Notice of Public Meeting, Idaho Falls District Resource Advisory Council Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The Idaho Falls District RAC will meet in Challis, Idaho, September 22-23, 2015, for a two-day meeting at the Challis Field Office, 1151 Blue Mountain Road, Challis, Idaho 83226. The first day will begin at 10:00 a.m. and adjourn at 4:30 p.m. The second day will begin at 8:00 a.m. and adjourn at 2:30 p.m. Members of the public are invited to attend. A comment period will be held following the introductions from 10:00-10:30 a.m. All meetings are open to the public.

SUPPLEMENTARY INFORMATION: The 15-member Council advises the Secretary of the Interior, through the Bureau of Land Management, on a variety of planning and management issues associated with public land management in the BLM Idaho Falls District (IFD), which covers eastern Idaho. Items on the agenda include an overview and tour of the new wilderness area.

The Recreation RAC will convene at approximately 11:15 a.m. to discuss the Caribou-Targhee National Forest proposal to increase Christmas tree permits to $15.00, and the Salmon Challis National Forest's proposal to begin using the Copper Basin Guard Station (located approximately 35 miles from Mackay, Idaho) as a rental cabin. Following the morning part of the meeting, the group will discuss several riparian projects the Challis Field Office is undertaking to improve fish habitat and learn more about permitting Special Recreational Permits (SRPs) in Wilderness Study Areas (WSAs). The second day RAC members will meet briefly at the office at 8:00 to begin a tour of the new wilderness area and several of the released WSAs to gain a better understanding of the affects it will have on BLM-managed lands.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: Sarah Wheeler, RAC Coordinator, Idaho Falls District, 1405 Hollipark Dr., Idaho Falls, ID 83401. Telephone: (208) 524-7550. Email: sawheeler@blm.gov.

Dated: August 18, 2015.
Sarah Wheeler,
Idaho Falls District Resource Advisory Coordinator.

[FR Doc. 2015-21099 Filed 8-25-15; 8:45 am]

BILLING CODE 4310-GG-P